DEPARTMENT OF DEFENSE

GENERAL SERVICES ADMINISTRATION

NATIONAL AERONAUTICS AND SPACE ADMINISTRATION

48 CFR Chapter 1

[Docket No. FAR 2019-0001, Sequence No. 1]

Federal Acquisition Regulation; Federal Acquisition Circular 2019-02; Small Entity Compliance Guide

AGENCY: Department of Defense (DoD), General Services Administration (GSA), and National Aeronautics and Space Administration (NASA).

ACTION: Small Entity Compliance Guide.

SUMMARY: This document is issued under the joint authority of DoD, GSA, and NASA. This Small Entity Compliance Guide has been prepared in accordance with section 212 of the Small Business Regulatory Enforcement Fairness Act of 1996. It consists of a summary of the rules appearing in Federal Acquisition Circular (FAC) 2019-02, which amends the Federal Acquisition Regulation (FAR). An asterisk (*) next to a rule indicates that a regulatory flexibility analysis has been prepared. Interested parties may obtain further information regarding these rules by referring to FAC 2019-02, which precedes this document. These documents are also available via the internet at http://www.regulations.gov.

DATES: May 6, 2019.

FOR FURTHER INFORMATION CONTACT: For clarification of content, contact the analyst whose name appears in the table below. Please cite FAC 2019-02 and the FAR Case number. For information pertaining to status or publication schedules, contact the Regulatory Secretariat Division at 202-501-4755.

Rules Listed in FAC 2019-02
Item | Subject | FAR Case | Analyst
I * | Special Emergency Procurement Authority | 2017-009 | Francis.
II | Governmentwide and Other Interagency Contracts | 2018-015 | Delgado.
III | Technical Amendments. |  |

SUPPLEMENTARY INFORMATION: Summaries for each FAR rule follow. For the actual revisions and/or amendments made by these rules, refer to the specific item numbers and subjects set forth in the documents following these item summaries. FAC 2019-02 amends the FAR as follows:

Item I—Special Emergency Procurement Authority (FAR Case 2017-009)

This final rule amends the FAR to implement sections 816 and 1641 of the National Defense Authorization Act (NDAA) for Fiscal Year (FY) 2017 (Pub. L. 114-328). These sections of the NDAA allow for higher micro-purchase and simplified acquisition thresholds for acquisitions of supplies or services which support international disaster assistance, response to an emergency or major disaster, or defense against or recovery from a cyber attack.

Item II—Governmentwide and Other Interagency Contracts (FAR Case 2018-015)

DoD, GSA, and NASA are issuing a final rule amending the FAR to implement section 875 of the John S. McCain NDAA for FY 2019. This section removes the requirement for agencies to make a determination that the use of an interagency acquisition represents the best procurement approach. This final rule only removes a requirement for agencies to make a specific determination prior to utilizing a certain contracting method. The removal of this requirement only affects the internal operating procedures of the Government and has no impact on contractors.

Item III—Technical Amendments

Editorial changes are made at FAR 1.105-3, 1.201-1, 2.101, 3.103-2, 3.104-3, 3.301, 3.303, 3.405, 3.501-2, 3.502-1, 3.502-2, 3.8, 3.901, 3.907-7, subpart 4.1, 4.102, 4.201, 4.202, 4.402, 4.403, 4.404, 4.604, 4.607, 4.703, 4.801, 4.803, 4.804-1, 4.804-4, 4.804-5, 4.805, 4.1005-2, 4.1200, subpart 4.15, 4.1801, 5.207, 5.404-1, 5.501, 5.504, 5.601, 5.705, 6.001, 6.102, 6.202, 6.301, 6.302-1, 6.302-2, 6.302-3, 6.302-5, 6.303-1, 6.303-2, 6.304, 6.401, 6.501, 7.102, 7.103, 7.105, 7.106, 7.107-5, 7.202, 7.203, 7.503, 8.005, 8.402, 8.405-6, 8.701, 8.703, 8.705-2, 8.714, 8.802, 8.1101, 8.1104, 9.102, 9.104-1, 9.104-7, 9.105-1, 9.107, 9.202, 9.204, 9.305, 9.306, 9.308-1, 9.401, 9.403, 9.406-1, 9.406-2, 9.406-3, 9.406-4, 9.407-1, 9.407-2, 9.407-3, 9.502, 9.505, 9.505-1, 9.505-2, 9.505-4, 9.507-1, 9.507-2, 9.508, 9.602, 11.102, 11.201, 11.604, 16.505, 17.703, 19.702, 22.1008-1, 26.205, 30.102, 31.101, 31.205-46, 45.602-3, 50.101-1, 52.212-5 and 53.107.

Dated: March 19, 2019.
William F. Clark,
Director, Office of Government-wide Acquisition Policy, Office of Acquisition Policy, Office of Government-wide Policy.

[FR Doc. 2019-06627 Filed 5-3-19; 8:45 am]

BILLING CODE 6820-EP-P